DEPARTMENT OF ENERGY

Federal Energy Regulatory Commission

[Project No. 2433-125]

Wisconsin Public Service Corporation; Notice of Application Accepted for Filing and Soliciting Comments, Motions To Intervene, and Protests

August 13, 2021.

Take notice that the following hydroelectric application has been filed with the Commission and is available for public inspection:

a. Type of Application: Reservoir Drawdown Plan.

b. Project No.: 2433-125.

c. Date Filed: July 28, 2021.

d. Applicant: Wisconsin Public Service Corporation.

e. Name of Project: Grand Rapids Hydroelectric Project.

f. Location: The project is located on the Menominee River in Marinette County, Wisconsin, and Menominee County, Michigan.

g. Filed Pursuant to: Federal Power Act 16 U.S.C. 791a-825r.

h. Applicant Contact: Mr. James Nuthals, Principal Environmental Consultant, Wisconsin Public Service Corporation, 700 North Adams Street, P.O. Box 19001, Green Bay, WI 54307-9001; (920) 433-1460; james.nuthals@wecenergygroup.com.

i. FERC Contact: Linda Stewart, (202) 502-8184, linda.stewart@ferc.gov.

j. Deadline for filing comments, motions to intervene, and protests: August 30, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-2433-125. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, it must also serve a copy of the document on that resource agency.

k. Description of Request: Wisconsin Public Service Corporation (licensee) requests approval of its filed Reservoir Drawdown Plan, which would allow the licensee to lower the reservoir in order to repair damaged flashboards on the overflow spillway. The licensee proposes to draw down the reservoir to a target elevation of 661.45 feet, which is 3 feet below the required minimum reservoir water surface elevation. The licensee would begin the drawdown on or before September 7, 2021, and return the reservoir to its normal operating elevation the week of October 4, 2021. The minimum flow requirement under Article 402 of the license would be maintained during the drawdown period; however, the run-of-river operation and reservoir water surface elevation requirements under Article 401 would be temporarily modified during the drawdown period.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting, or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: August 13, 2021.
Kimberly D. Bose,
Secretary.

[FR Doc. 2021-17781 Filed 8-18-21; 8:45 am]

BILLING CODE 6717-01-P